NATIONAL ARCHIVES AND RECORDS ADMINISTRATION

[NARA-2016-020]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide agencies with mandatory instructions for what to do with records when agencies no longer need them for current Government business. The instructions authorize agencies to preserve records of continuing value in the National Archives of the United States and to destroy, after a specified period, records lacking administrative, legal, research, or other value. NARA publishes notice in the Federal Register for records schedules in which agencies propose to destroy records not previously authorized for disposal or to reduce the retention period of records already authorized for disposal. NARA invites public comments on such records schedules, as required by 44 U.S.C. 3303a(a).

DATES: NARA must receive requests for copies in writing by April 15, 2016. Once NARA appraises the records, we will send you a copy of the schedule you requested. We usually prepare appraisal memoranda that contain additional information concerning the records covered by a proposed schedule. You may also request these. If you do, we will also provide them once we have completed the appraisal. You have 30 days after we send you these requested documents in which to submit comments.

ADDRESSES: You may request a copy of any records schedule identified in this notice by contacting Records Management Services (ACNR) using one of the following means:

Mail: NARA (ACNR); 8601 Adelphi Road; College Park, MD 20740-6001.

Email: request.schedule@nara.gov.

FAX: 301-837-3698.

You must cite the control number, which appears in parentheses after the name of the agency that submitted the schedule, and a mailing address. If you would like an appraisal report, please include that in your request.

FOR FURTHER INFORMATION CONTACT: Margaret Hawkins, Director, by mail at Records Management Services (ACNR); National Archives and Records Administration; 8601 Adelphi Road; College Park, MD 20740-6001, by phone at 301-837-1799, or by email at request.schedule@nara.gov.

SUPPLEMENTARY INFORMATION: Each year, Federal agencies create billions of records on paper, film, magnetic tape, and other media. To control this accumulation, agency records managers prepare schedules proposing retention periods for records and submit these schedules for NARA's approval. These schedules provide for timely transfer into the National Archives of historically valuable records and authorize disposal of all other records after the agency no longer needs them to conduct its business. Some schedules are comprehensive and cover all the records of an agency or one of its major subdivisions. Most schedules, however, cover records of only one office or program or a few series of records. Many of these update previously approved schedules, and some include records proposed as permanent.

The schedules listed in this notice are media-neutral unless otherwise specified. An item in a schedule is media-neutral when an agency may apply the disposition instructions to records regardless of the medium in which it has created or maintains the records. Items included in schedules submitted to NARA on or after December 17, 2007, are media-neutral unless the item is specifically limited to a specific medium. (See 36 CFR 1225.12(e).)

Agencies may not destroy Federal records without the approval of the Archivist of the United States. The Archivist grants this approval only after thorough consideration of the records' administrative use by the agency of origin, the rights of the Government and of private people directly affected by the Government's activities, and whether or not the records have historical or other value.

In addition to identifying the Federal agencies and any subdivisions requesting disposition authority, lists the organizational unit(s) accumulating the records or lists that the schedule has agency-wide applicability (in the case of schedules that cover records that may be accumulated throughout an agency); provides the control number assigned to each schedule, the total number of schedule items, and the number of temporary items (the records proposed for destruction); and includes a brief description of the temporary records. The records schedule itself contains a full description of the records at the file unit level as well as their disposition. If NARA staff has prepared an appraisal memorandum for the schedule, it also includes information about the records. You may request additional information about the disposition process at the addresses above.

Schedules Pending

1. Department of Agriculture, Farm Service Agency (DAA-0145-2015-0006, 9 items, 8 temporary items). Records related to the Production Adjustment Program to include farm history cards, allotments, reconstitutions, and general management files, as well as producer, farm tract, and crop records. Proposed for permanent retention are significant farm history records.

2. Department of Agriculture, Natural Resources Conservation Service (DAA-0114-2016-0001, 6 items, 1 temporary item). Duplicate copies of aerial photographic imagery. Proposed for permanent retention are original analog negative film, digital imagery that does not exist in analog format, negative imagery indices, and film reports.

3. Department of Defense, Defense Health Agency (DAA-0330-2015-0008, 1 item, 1 temporary item). Master files of an electronic information system used in the determination of the medical acceptability of applicants to any of the United States Service Academies, the Uniformed Services University of the Health Sciences, and Reserve Officer Training Corps Scholarship Programs.

4. Department of Defense, Defense Health Agency (DAA-0330-2016-0001, 3 items, 3 temporary items). Master files of an electronic information system used in blood donation activities of the Armed Services Blood Program.

5. Department of Defense, Defense Threat Reduction Agency (DAA-0374-2014-0019, 1 item, 1 temporary item). Records relating to quality assurance, inspections, and audits of weapons systems.

6. Department of Energy, Office of Energy Efficiency and Renewable Energy (DAA-0434-2015-0012, 5 items, 5 temporary items). Records relating to exclusions/waivers from the use of energy-efficient vehicles by state and municipal governments.

7. Department of Health and Human Services, Indian Health Service (DAA-0513-2015-0011, 2 items, 2 temporary items). Records, to include applications, correspondence, project papers, and achievement materials, that document applicants to an Indian Health Service educational or occupational program.

8. Department of Health and Human Services, National Institutes of Health (DAA-0443-2016-0001, 1 item, 1 temporary item). Intramural research records consisting of project documentation that supports patents or inventions rights that do not meet the criteria for permanent retention.

9. Department of Homeland Security, Federal Emergency Management Agency (DAA-0311-2016-0001, 1 item, 1 temporary item). Master files of an electronic information system used as a reference tool for after-action reports.

10. Department of Homeland Security, United States Citizenship and Immigration Services (DAA-0566-2016-0001, 2 items, 2 temporary items). Master file of an electronic information system used to track administrative review of case appeals.

11. Department of Homeland Security, United States Citizenship and Immigration Services (DAA-0566-2016-0002, 8 items, 2 temporary items). Applications for naturalization when rejected due to incorrect fees or non-sufficient funds, or due to being incomplete or missing signature(s). Proposed for permanent retention are all other naturalization applications (approved, denied, abandoned, withdrawn, terminated, and administratively closed).

12. Department of Labor, Employee Benefits Security Administration (DAA-0317-2015-0001, 2 items, 2 temporary items). Records include an email archive file and annual administrative report image files.

13. Department of State, Bureau of Conflict and Stabilization Operations (DAA-0059-2015-0006, 5 items, 5 temporary items). Records of the Office of Partnership and Strategic Communications including copies of briefing books, program records, and reference materials/background information on partners and engagements.

14. Department of Transportation, National Highway Traffic Safety Administration (DAA-0416-2015-0004, 2 items, 2 temporary items). Content records of agency social networking Web sites.

15. Department of the Treasury, Internal Revenue Service (DAA-0058-2015-0004, 1 item, 1 temporary item). Tax exempt and government entities compliance records to include case file management and workflow process tracking.

16. Department of Veterans Affairs, Veterans Health Administration (DAA-0015-2016-0001, 6 items, 6 temporary items). Database of patient-generated data including demographics, releases, assessments, and health or daily living information incorporated into electronic health records.

17. National Archives and Records Administration, Government-wide (DAA-GRS-2015-0005, 7 items, 7 temporary items). A revised General Records Schedule for non-mission employee training, including individual employee records and Senior Executive Service Development program records.

18. National Archives and Records Administration, Government-wide (DAA-GRS-2016-0001, 5 items, 5 temporary items). Additions and revisions to the General Records Schedule for records of financial management and reporting including unaccepted bids and proposals, vendor and bidder information, contract appeal records, and Federal Procurement Data System agency submissions.

19. National Archives and Records Administration, Government-wide (DAA-GRS-2016-0002, 4 items, 4 temporary items). Revisions to the General Records Schedule for information access and protection records clarifying coverage of records under previously approved items, and clarifying retention of otherwise disposable records until associated Freedom of Information Act, Privacy Act, and Mandatory Declassification Review requests are disposable.

20. National Archives and Records Administration, Government-wide (DAA-GRS-2016-0003, 4 items, 4 temporary items). Addition to the General Records Schedule for information access and protection records to include records related to Privacy Act System of Records Notices (SORNs), Privacy Threshold Analyses (PTAs), Initial Privacy Assessments (IPAs), Privacy Impact Assessments (PIAs), and computer matching programs.

Dated: March 9, 2016.
Laurence Brewer,
Director, Records Management Operations.

[FR Doc. 2016-05918 Filed 3-15-16; 8:45 am]

BILLING CODE 7515-01-P